DEPARTMENT OF HEALTH AND HUMAN SERVICES

Centers for Disease Control And Prevention

[60 Day-00-19]

Proposed Data Collections Submitted for Public Comment and Recommendations

In compliance with the requirement of Section 3506 (c)(2)(A) of the Paperwork reduction Act of 1995, the Center for Disease Control and Prevention is providing opportunity for public comment on proposed data collection projects. To request more information on the proposed projects or to obtain a copy of the data collection plans and instruments, call the CDC Reports Clearance Officer on (404) 639-7090.

Comments are invited on: (a) Whether the proposed collection of information is necessary for the proper performance of the functions of the agency, including whether the information shall have practical utility; (b) The accuracy of the agency's estimate of the burden of the proposed collection of information; (c) Ways to enhance the quality, utility, and clarity of the information to be collected; and (d) Ways to minimize the burden of the collection of information on respondents, including through the use of automated collection techniques for other forms of information technology. Send comments to Seleda Perryman, CDC Assistant Reports Clearance Officer, 1600 Clifton Road, MS-D24, Atlanta, GA 30333. Written comments should be received within 60 days of this notice.

Proposed Projects

1. Preventive Health and Health Services Block Grant, Annual Application and Reports (0920-0106)—Renewal—The National Center for Chronic Disease Prevention and Health Promotion—In 1994, the Office of Management and Budget approved the collection of information provided in the grant applications and annual reports for the Preventive Health and Health Services Block Grant (0920-0106). This approval expires on November 30, 2000. CDC is requesting an extension of OMB clearance for this legislatively mandated information collection until November 30, 2001. The extension is limited to one year to allow for the development and adherence to Healthy People 2010 to be released the Spring of 2000. The Preventive Health and Health Services Block Grant is mandated according to section 1904 to adhere to the Healthy People framework, therefore, the current application and report format will be restructured to coincide with 2010 and resubmitted for OMB clearance at that time.

This information collected through the applications from the official State health agencies is required from section 1905 of the Public Health Service Act. There is no change in the proposed information collection from previous years. The information collected from the annual reports is required by section 1906, specifically the requirement for uniform data sets matching the uses of funds. The total cost to all respondents is $137,250, estimated at $25/burden hour.

Respondents | No. of respondents | No. of responses/respondent | Average burden per response | Total burden
Application | 61 | 1 | 30 | 1830
Report | 61 | 1 | 60 | 3660
Total |  |  |  | 5490

Dated: January 11, 2000.
Nancy Cheal,
Acting Associate Director for Policy, Planning, and Evaluation, Centers for Disease Control and Prevention (CDC).

[FR Doc. 00-1027 Filed 1-14-00; 8:45 am]

BILLING CODE 4163-18-M